DEPARTMENT OF ENERGY

Federal Energy Regulatory Commission

Notice of Filings

December 4, 2006.

The North American Electric Reliability Council
The North American Electric Reliability Corporation | Docket No. RR06-1-004.
Delegation Agreement Between the North American Electric Reliability Corporation and Texas Regional Entity, a division of ERCOT | Docket No. RR07-1-000.
Delegation Agreement Between the North American Electric Reliability Corporation and Midwest Reliability Organization | Docket No. RR07-2-000.
Delegation Agreement Between the North American Electric Reliability Corporation and Northeast Power Coordinating Council: Cross Border Regional Entity, Inc. | Docket No. RR07-3-000.
Delegation Agreement Between the North American Electric Reliability Corporation and ReliabilityFirst Corporation | Docket No. RR07-4-000.
Delegation Agreement Between the North American Electric Reliability Corporation and SERC Reliability Corporation | Docket No. RR07-5-000.
Delegation Agreement Between the North American Electric Reliability Corporation and Southwest Power Pool, Inc | Docket No. RR07-6-000.
Delegation Agreement Between the North American Electric Reliability Corporation and Western Electricity Coordinating Council | Docket No. RR07-7-000.
Delegation Agreement Between the North American Electric Reliability Corporation and Florida Reliability Coordinating Council | Docket No. RR07-8-000.

On November 29, 2006, the North American Electric Reliability Council and the North American Electric Reliability Corporation submitted for Commission approval a uniform Compliance Monitoring and Enforcement Program and the revised pro forma delegation agreement. This filing is assigned to Docket No. RR06-1-004.

On November 29, 2006, the North American Electric Reliability Corporation (NERC) submitted for Commission approval eight delegation agreements between NERC and each of the eight proposed Regional Entities. Each of the delegation agreements has been assigned a separate docket number, as referenced above.

According to NERC, the delegation agreement between NERC and Florida Reliability Coordinating Council has been submitted in its current state for informational purposes. NERC intends to supplement its filing with a complete delegation agreement for approval by the Commission at a later point.

Interested parties may file comments on these filings in all of these dockets, on or before January 10, 2007.

The Commission encourages electronic submission of comments in lieu of paper using the “eFiling” link at http://www.ferc.gov. Persons unable to file electronically should submit an original and 14 copies of the protest or intervention to the Federal Energy Regulatory Commission, 888 First Street, NE., Washington, DC 20426. This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-21047 Filed 12-11-06; 8:45 am]

BILLING CODE 6717-01-P